DEPARTMENT OF TRANSPORTATION

Surface Transportation Board

[Docket No. FD 35237]

City of Davenport, Iowa—Construction and Operation Exemption—in Scott County, Iowa

By petition filed on July 21, 2009, the City of Davenport, Iowa (the City) seeks an exemption under 49 U.S.C. 10502 from the prior approval requirements of 49 U.S.C. 10901 to construct approximately 2.8 miles of rail line in southern Eldridge, northern Davenport, and an unincorporated area of Scott County, Iowa. The new line will provide the Eastern Iowa Industrial Center, an industrial park, with rail access. The City will hire an operator to provide service on the line, but the City also will be required to ensure continued rail service.

In a decision served on October 19, 2009, the Board instituted a proceeding under 49 U.S.C. 10502(b). No comments opposing the petition have been filed.

The Federal Highway Administration (FHWA), the lead Federal agency on this rail project, and the City issued an Environmental Assessment (EA) for public review and comment on March 17, 2008. On July 8, 2008, the FHWA issued its Record and Finding of No Significant Impact and recommended 3 environmental conditions to mitigate the impacts of the project. After the Board's Office of Environmental Analysis (OEA) independently reviewed the FHWA EA, OEA prepared and issued on January 28, 2010, a Review of Environmental Matters and Final Environmental Recommendations in which OEA recommended that the Board adopt the FHWA EA and impose the 3 environmental conditions recommended by the FHWA. Due to a subsequent proposed change by the City in project design and in the rail alignment, OEA, the FHWA, the Iowa Department of Transportation, and the City conducted a reevaluation of the project. In December 2010, the FHWA and OEA determined that no supplemental environmental review would be required and that the same 3 environmental conditions should be imposed.

After considering the entire record, including both the transportation aspects of the petition and the potential environmental issues, the Board granted the requested construction and operation exemption in a decision served today, subject to compliance with the environmental mitigation measures listed in the Appendix to the decision. Petitions to reopen must be filed by April 26, 2011.

Board decisions and notices are available on our Web site at http://www.stb.dot.gov.

Decided: March 30, 2011.
By the Board, Chairman Elliott and Commissioner Mulvey.
Jeffrey Herzig,
Clearance Clerk.

[FR Doc. 2011-8158 Filed 4-5-11; 8:45 am]

BILLING CODE 4915-01-P